DEPARTMENT OF HEALTH AND HUMAN SERVICES

Centers for Medicare & Medicaid Services

42 CFR Part 413, 414 and 494

[CMS-1651-P]

RIN 0938-AS83

Medicare Program; End-Stage Renal Disease Prospective Payment System, Coverage and Payment for Renal Dialysis Services Furnished to Individuals With Acute Kidney Injury, End-Stage Renal Disease Quality Incentive Program, Durable Medical Equipment, Prosthetics, Orthotics and Supplies Competitive Bidding Program Bid Surety Bonds, State Licensure and Appeals Process for Breach of Contract Actions, Durable Medical Equipment, Prosthetics, Orthotics and Supplies Competitive Bidding Program and Fee Schedule Adjustments, Access to Care Issues for Durable Medical Equipment; and the Comprehensive End-Stage Renal Disease Care Model

Correction

In proposed rule document 2016-15188 beginning on page 42802 in the issue of Thursday, June 30, 2016, make the following corrections:

1. On page 42851, in the third column, in the ninth line from the bottom, “2035” should read “2015”.

2. On page 42852, in the table, in the first column, in the seventeenth row, “E0303” should read “E0301”.

3. On the same page, in the same table, in the same column, in the final row on this page, “E0330” should read “E0130”.

4. On page 42853, in the table, in the first column, in the first row on this page, “E0335” should read “E0135”.

5. On the same page, in the same table, in the same column, in the second row on this page, “E0341” should read “E0141”.

6. On the same page, in the same table, in the same column, in the second row on this page, “E0343” should read “E0143”.

[FR Doc. C1-2016-15188 Filed 8-2-16; 8:45 am]

BILLING CODE 1505-01-D